ENVIRONMENTAL PROTECTION AGENCY

[FRL-9289-5]

North Carolina Waters Along the Entire Length of Brunswick and Pender Counties and the Lower Portion of the Cape Fear River in Brunswick and New Hanover Counties; No Discharge Zone Determination

On June 21, 2010, the Environmental Protection Agency (EPA), Region 4, published a proposal in concurrence with the North Carolina Department of Environment and Natural Resources (DENR), Division of Water Quality (DWQ), that adequate and reasonably available pumpout facilities exist for the designation of Brunswick and Pender Counties Coastal Waters and a portion of the Cape Fear River, as a No Discharge Zone (NDZ). Specifically, these waters include all the tidal salt waters extending 3 nautical miles (nm) into the Atlantic Ocean along the entire length of Brunswick and Pender Counties, and the saline waters of the Cape Fear River in Brunswick and New Hanover Counties. The other saline waters of New Hanover County have already been designated as a NDZ.

The originally proposed geographic description including latitudes and longitudes were as follows:

Northern Border of Pender County with Onslow County (34° 27′23.9″ N 77° 32.4′.859″ W), southwest along the mainland coast, to include all named and unnamed creeks, the Atlantic Intracoastal Waterway, Cape Fear River (up to Toomers Creek 34° 15′36.61″ N 77° 58′56.03″ W), Brunswick River, and Northeast Cape Fear River (up to Ness Creek 34° 17′7.10″ N 77° 57′17.70″ W), to the intersection of the Western tip of Brunswick County and South Carolina, 3 nm into the Atlantic Ocean (33° 48′32.903″ N 78° 30′33.675″ W) to include all the U.S. Territorial Sea extending 3 nm from South Carolina to a point 3 nm into the Atlantic Ocean (34° 24′30.972″ N 78° 28′18.903″ W) to the Pender/Onslow County Line.

Three comment letters opposing this designation were received. These letters were from Cruise Lines International Association, Moran of Wilmington (Division of Moran Towing Corporation), and McAllister Towing and Transportation Company. The reason for the opposition is that there are not adequate and reasonably available pumpout facilities available for these commercial vessels which have deeper drafts than most recreational vessels. These are valid concerns. The State explored the comments and options, and confirmed that pumpout facilities are not available in the upper Cape Fear River specifically for the tugboats that operate in those waters and hereby amend the proposal to remove the Cape Fear River, above the waterway known as Snow's Cut, from the NDZ area. The lower Cape Fear River is still proposed for NDZ. The inland limit of the NDZ in the Cape Fear River will be the waterway known as Snow's Cut (A line drawn across the Cape Fear River at Snows Cut on the Cape Fear River at Snows Cut on the Cape Fear River from 34°3′5.8962″ N; 77°55′4.8966″ W to 34°3′4.5216″ N 77°56′37.086″ W).

This petition was filed pursuant to the Clean Water Act, Section 312(f)(3), Public Law 92-500 as amended by Public Law 95-217 and Public Law 100-4. A NDZ is defined as a body of water in which the discharge of vessel sewage, both treated and untreated, is prohibited. Section 312(f)(3) states: After the effective date of the initial standards and regulations promulgated under this section, if any State determines that the protection and enhancement of the quality of some or all of the waters within such States require greater environmental protection, such State may completely prohibit the discharge from all vessels of any sewage, whether treated or not, into such waters, except that no such prohibition shall apply until the Administrator determines that adequate facilities for the safe and sanitary removal and treatment of sewage from all vessels are reasonably available for such water to which such prohibition would apply.

According to DENR DWQ the following facilities are located in Brunswick, Pender, and New Hanover Counties for pumping out vessel holding tanks:

Marinas Within the Proposed NDZ

(1) St James Plantation Marina, 910-253-0463, 8 a.m.-5 p.m. M-F, 7′ draft at mean low tide.

(2) South Harbor Village Marina, 910-454-7486, 7 a.m.-7 p.m. Summers, varies off season, 10′15′ draft at mean low tide.

(3) Southport Marina Inc., 910-457-9900, Sunrise to Sunset, 6′ draft at mean low tide.

(4) Bald Head Island Marina, 910-457-7380, 9 a.m.-5 p.m. M-F 9 a.m.-6 p.m. Saturday 8 a.m.-6 p.m. Sunday, 8′ draft at mean low tide.

(5) Mona Black Marina, 910-458-0575, Flexible—open year round, 4′ draft at mean low tide.

(6) Waterfront Village & Yacht Club, 910-458-7400, Call ahead, 5.5′ draft at mean low tide.

(7) Carolina Beach State Park, 910-458-7770, May-August 8 a.m.-5 p.m. March, April, September, October 8 a.m.-7 p.m., 8′ draft at mean low tide.

(8) Joyner Marina, 910-458-5053, Winter and Weekdays 8 a.m.-5 p.m. Summer and Weekends 7 a.m.-7 p.m., 5.5′ draft at mean low tide.

(9) Wrightsville Beach Marina/Trans Dock, 910-256-6666, 8 a.m.-7:30 p.m. Monday-Friday, 13′-18′ draft at mean low tide.

(10) Seapath Yacht Club, 910-256-3747, 7 a.m.-7 p.m., 10′-12′ draft at mean low tide.

(11) Harbour Village Marina, 910-270-2994, 7 a.m.-4 p.m., 10′ draft at mean low tide.

(12) Beach House Marina, 910-328-2628, 8 a.m.-6 p.m., 7.5′ draft at mean low tide.

Marinas Outside of the Proposed NDZ, but Within 5 nm

(1) Coquina Harbor Marina, 843-249-5376, 8 a.m.-6 p.m., 9′-13′ draft at mean low tide.

(2) Cricket Cove Marina, 843-249-7169, 8 a.m.-Sunset, 9′ draft at mean low tide.

(3) Anchor Marina, 843-249-7899, 8 a.m.-5 p.m., 5′ draft at mean low tide.

(4) Doc Holidays Marina, 843-280-6354, 8 a.m.-6 or 8 p.m. depending on season, 8′ draft at mean low tide.

Marinas Outside of the Proposed NDZ, but Within 7 nm

(1) Watermark Marina of Wilmington, 910-794-5259, 10 a.m.-6 p.m. Monday-Saturday, 7′ draft at mean low tide.

(2) Wilmington Marine Center, 910-395-5055, 8 a.m.-5 p.m. Seasonal, 7′ draft at mean low tide.

Marinas Outside of the Proposed NDZ, but Within 12 nm

(1) Cape Fear Marina, 910-772-9277, 8 a.m.-5 p.m. Monday-Friday Weekends by appointment only, 8′ draft at mean low tide.

The total vessel population for these three counties (2009 data) is 28,400. This number reflects active vessel registrations and was obtained from the North Carolina Wildlife Resources Commission (inactive registrations were not included in these figures). It is recognized that only a small percent of the vessels in the coastal waters of Brunswick and Pender Counties are equipped with a Marine Sanitation Device (MSD). To estimate the number of MSDs in use, percentages obtained from EPA Region 2 were applied and are as follows:

Boat Length < 16′ | 8.3% with MSDs.
Boat Length 16′-25′ | 10.6% with MSDs.
Boat Length 26′-40′ | 78.5% with MSDs.
Boat Length > 40′ | 82.6% with MSDs.

In applying these percentages an estimated 3,888 MSDs are in use by registered boats within the proposed NDZ.

According to the New Hanover County NDZ Application submitted to EPA, the number of transient boats serviced by marinas in New Hanover County was calculated to be approximately 180 per month. Assuming similar numbers of transient boats for Brunswick and Pender Counties, the total number of transient boats for Brunswick, Pender, and New Hanover Counties would be 540. Using the figures for both county and transient boats, the total number of MSDs in these waters is estimated to be 4,428. There are 12 marinas within this area, and this yields a ratio of about 369 boats per pumpout facility. This figure does not include the 4 marinas that are located within 5 nm of this proposed NDZ area.

All vessel pumpout facilities that are described either discharge into State approved waste treatment systems, or the waste is collected into a large holding tank for transport to a sewage treatment plant. Thus all vessel sewage will be treated to meet existing standards for secondary treatment.

Based on the examination of this petition, its supporting documentation, and public response, EPA concurs with the State of North Carolina's determination that adequate and reasonably available facilities for the safe and sanitary removal and treatment of sewage from all vessels are present in the described area going from the South Carolina/North Carolina State line to the northern boundary of the Pender County line in North Carolina, with the inland limit of the NDZ in the Cape Fear River being the waterway known as Snow's Cut (Snow's Cut entrance to Cape Fear River located from 34°3′5.8962″ N; 77°55′4.8966″ W to 34°3′4.5216″ N 77°56′37.086″ W), and 3 nm out into the Atlantic Ocean, and therefore this area is designated as a NDZ.

A. Stanley Meiburg,
Acting Regional Administrator, Region 4.

[FR Doc. 2011-7902 Filed 4-1-11; 8:45 am]

BILLING CODE 6560-50-P